DEPARTMENT OF DEFENSE

32 CFR Chs. I, V, VI, and VII

33 CFR Ch. II

36 CFR Ch. III

48 CFR Ch. II

Improving Government Regulations; Unified Agenda of Federal Regulatory and Deregulatory Actions

AGENCY: Department of Defense (DoD).

ACTION: Semiannual Regulatory Agenda.

SUMMARY: This agenda announces the regulatory actions the Department of Defense (DoD) plans to take in the next 12 months and those regulatory actions completed since the publication of the Fall 2023 Unified Agenda. It was developed under the guidelines of Executive Order 12866, “Regulatory Planning and Review,” as amended by Executive Order 14094, “Modernizing Regulatory Review” and Executive Order 13563, “Improving Regulation and Regulatory Review.” This agenda includes regulatory actions that support the Administration's regulatory priorities, the Secretary of Defense's top priorities to defend the Nation, take care of our people, and succeed through teamwork, as well as those priorities of the National Defense Strategy. These actions include efforts to promote the country's economic resilience; address healthcare issues; support underserved communities and improve small business opportunities; promote competition in the American economy; address issues impacting the Federal workforce; support national security efforts, especially safeguarding Federal Government information and information technology systems; support the climate change emergency; and address issues impacting military families. Members of the public may submit comments on individual proposed and interim final rulemakings at www.regulations.gov during the comment period that follows publication in the Federal Register.

This agenda updates the report published on February 9, 2024, and includes regulations expected to be issued and under review over the next 12 months. The next agenda will publish in the fall of 2024.

The complete Unified Agenda will be available online at www.reginfo.gov.

In accordance with the Regulatory Flexibility Act (5 U.S.C. 602), which requires agencies to publish its regulatory flexibility agendas in the Federal Register, the Department of Defense's printed agenda entries in the Federal Register include only:

(1) rules that are in the Agency's regulatory flexibility agenda, in accordance with the Regulatory Flexibility Act, because they are likely to have a significant economic impact on a substantial number of small entities; and

(2) Any rules that the Agency has identified for periodic review under section 610 of the Regulatory Flexibility Act.

Although printing of these entries is limited to fields that contain information required by the Regulatory Flexibility Act's agenda requirements, additional information on these entries is in the Unified Agenda available online.

FOR FURTHER INFORMATION CONTACT: For information concerning the overall DoD regulatory program and for general semiannual agenda information, contact Ms. Patricia Toppings, telephone 571-372-0485, or write to Office of the Assistant to the Secretary of Defense for Privacy, Civil Liberties, and Transparency, Regulatory Directorate, 1155 Defense Pentagon, Washington, DC 20301-1155, or email: patricia.l.toppings.civ@mail.mil.

For questions of a legal nature concerning the agenda and its statutory requirements or obligations, write to Office of the General Counsel, 1600 Defense Pentagon, Washington, DC 20301-1600, telephone 703-695-1853, or email: gerald.j.dziecichowicz.civ@mail.mil.

For general information on Office of the Secretary regulations, other than those which are procurement-related, contact Ms. Patricia Toppings, telephone 571-372-0485, or write to Office of the Assistant to the Secretary of Defense for Privacy, Civil Liberties, and Transparency, Regulatory Directorate, 1155 Defense Pentagon, Washington, DC 20301-1155, or email: patricia.l.toppings.civ@mail.mil.

For general information on Office of the Secretary regulations which are procurement-related, contact Ms. Jennifer Johnson, telephone 571-372-6100, or write to Office of the Under Secretary of Defense for Acquisition and Sustainment, Defense Pricing and Contracting, Defense Acquisition Regulations System, Room 3B941, 3060 Defense Pentagon, Washington, DC 20301-3060, or email: jennifer.d.johnson1.civ@mail.mil.

For general information on Department of the Army regulations, contact Mr. James “Jay” Satterwhite, telephone 571-515-0304, or write to the U.S. Army Records Management and Declassification Agency, ATTN: AAHS-RDO, Building 1458, 9301 Chapek Road, Ft. Belvoir, VA 22060-5605, or email: james.w.satterwhite.civ@mail.mil.

For general information on the U.S. Army Corps of Engineers regulations, contact Mr. Elliott Carman, telephone 703-300-2899, or write to Office of the Assistant Secretary of the Army (Civil Works), 108 Army Pentagon, Room 3E441, Washington, DC 20310-0108, or email: elliott.n.carman.civ@army.mil.

For general information on Department of the Navy regulations, contact LCDR Jessica Koningisor, telephone 703-614-7408, or write to Department of the Navy, Office of the Judge Advocate General, Administrative Law Division (Code 13), Washington Navy Yard, 1322 Patterson Avenue SE, Suite 3000, Washington, DC 20374-5066, or email: jessica.e.koningisor.mil@us.navy.mil.

For general information on Department of the Air Force regulations, contact Mr. Robert Bivins, telephone 703-693-7302, or write the Office of the Secretary of the Air Force, Chief, Information Dominance/Chief Information Officer (SAF CIO/A6), 1800 Air Force Pentagon, Washington, DC 20330-1800, or email: usaf.pentagon.saf-cio-a6.mbx.af-foia@mail.mil.

For specific agenda items, contact the appropriate individual indicated for each regulatory action.

SUPPLEMENTARY INFORMATION: This edition of the Unified Agenda of Federal Regulatory and Deregulatory Actions reports on actions planned by the Office of the Secretary of Defense, the Military Departments, the Office of the Under Secretary of Defense for Acquisition and Sustainment for procurement-related actions, and the U.S. Army Corps of Engineers.

This agenda also identifies rules impacted by the:

a. Regulatory Flexibility Act.

b. Paperwork Reduction Act of 1995.

c. Unfunded Mandates Reform Act of 1995.

Generally, rules discussed in this agenda will contain five sections: (1) pre-rule stage; (2) proposed rule stage; (3) final rule stage; (4) completed actions; and (5) long-term actions. Where certain regulatory actions indicate that small entities are affected, the effect on these entities may not necessarily have significant economic impact on a substantial number of these entities as defined in the Regulatory Flexibility Act (5 U.S.C. 601(6)).

The publishing of this agenda does not waive the applicability of the military affairs exemption in section 553 of title 5 U.S.C. and section 3 of Executive Order 12866.

Joo Y. Chung,
Assistant to the Secretary of Defense for Privacy, Civil Liberties, and Transparency, Department of Defense.

Office of the Secretary—Final Rule Stage
Sequence No. | Title | Regulation Identifier No.
57 | Cybersecurity Maturity Model Certification (CMMC) Program | 0790-AL49

Defense Acquisition Regulations Council—Proposed Rule Stage
Sequence No. | Title | Regulation Identifier No.
58 | Assessing Contractor Implementation of Cybersecurity Requirements (DFARS Case 2019-D041) | 0750-AK81

DEPARTMENT OF DEFENSE (DOD)

Office of the Secretary (OS)

Final Rule Stage

57. Cybersecurity Maturity Model Certification (CMMC) Program [0790-AL49]

Legal Authority: 5 U.S.C. 301; Pub. L. 116-92, sec. 1648

Abstract: The Department of Defense (DoD) is l finalizing requirements o ensure defense contractors and subcontractors have, as part of the Cybersecurity Maturity Model Certification (CMMC) Program, implemented required security measures for Federal Contract Information (FCI) and add new Controlled Unclassified Information (CUI) security requirements for certain priority programs.

Timetable:

Action | Date | FR Cite
NPRM | 12/26/23 | 88 FR 89058
NPRM Comment Period End | 02/26/24 |
Final Action | 11/00/24 |

Regulatory Flexibility Analysis Required: Yes.

Agency Contact: Diane L. Knight, Senior Management and Program Analyst, Department of Defense, Office of the Secretary, 4800 Mark Center Drive, Suite 12E08, Alexandria, VA 22350, Phone: 202 770-9100, Email: diane.l.knight10.civ@mail.mil.

RIN: 0790-AL49

DEPARTMENT OF DEFENSE (DOD)

Defense Acquisition Regulations Council (DARC)

Proposed Rule Stage

58. Assessing Contractor Implementation of Cybersecurity Requirements (DFARS Case 2019-D041) [0750-AK81]

Legal Authority: 41 U.S.C. 1303; Pub. L. 116-92, sec. 1648

Abstract: DoD is amending an interim rule to implement the CMMC framework 2.0 in order to protect against the theft of intellectual property and sensitive information from the Defense Industrial Base (DIB) sector. The CMMC framework, as defined in Title 32 of the Code of Federal Regulations (CFR), assesses compliance with applicable information security requirements. This rule provides the Department with assurances that a DIB contractor can adequately protect sensitive unclassified information at a level commensurate with the risk, accounting for information flow down to its subcontractors in a multi-tier supply chain.

Timetable:

Action | Date | FR Cite
Interim Final Rule | 09/29/20 | 85 FR 48513
Interim Final Rule Effective | 11/30/20 |
NPRM | 08/00/24 |

Regulatory Flexibility Analysis Required: Yes.

Agency Contact: Jennifer D. Johnson, Office of the Under Secretary of Defense for Acquisition and Sustainment, Department of Defense, Defense Acquisition Regulations Council, Defense Pricing and Contracting, Defense Acquisition Regulations System, Room 3B938, 3060 Pentagon, Washington, DC 20301-3060, Phone: 703 717-8226, Email: jennifer.d.johnson1.civ@mail.mil.

RIN: 0750-AK81

[FR Doc. 2024-16449 Filed 8-15-24; 8:45 am]

BILLING CODE 5001-06-P